DEPARTMENT OF COMMERCE

Foreign-Trade Zones Board

[Order No. 1897]

Reorganization of Foreign-Trade Zone 147 Under Alternative Site Framework Reading, Pennsylvania

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the FTZ Corporation of Southern Pennsylvania, grantee of Foreign-Trade Zone 147, submitted an application to the Board (FTZ Docket B-79-2012, docketed 11-1-2012) for authority to reorganize under the ASF with a service area of Berks, Cumberland, Dauphin, Franklin, Lancaster and York Counties, Pennsylvania, in and adjacent to the Harrisburg Customs and Border Protection port of entry, FTZ 147's existing Sites 1-5, 7-14, 16-19 and 23-26 would be categorized as magnet sites, and FTZ 147's existing Sites 20-22 would be categorized as usage-driven sites;

Whereas, notice inviting public comment was given in the Federal Register (77 FR 66796-66797, 11/7/2012) and the application has been processed pursuant to the FTZ Act and the Board's regulations; and,

Whereas, the Board adopts the findings and recommendations of the examiner's report, and finds that the requirements of the FTZ Act and the Board's regulations are satisfied;

Now, therefore, the Board hereby orders:

The application to reorganize FTZ 147 under the ASF is approved, subject to the FTZ Act and the Board's regulations, including Section 400.13, to the Board's standard 2,000-acre activation limit for the zone, and to a five-year ASF sunset provision for magnet sites that would terminate authority for Sites 2-5, 7-14, 16-19 and 23-26 if not activated by April 30, 2018 and to a three-year ASF sunset provision for usage-driven sites that would terminate authority for Sites 20-22 if no foreign-status merchandise is admitted for a bona fide customs purpose by April 30, 2016.

Signed at Washington, DC, this 30th day of April 2013.
Paul Piquado,
Assistant Secretary of Commerce for Import Administration, Alternate Chairman, Foreign-Trade Zones Board.

Attest:

Andrew McGilvray,
Executive Secretary.

[FR Doc. 2013-11206 Filed 5-10-13; 8:45 am]

BILLING CODE 3510-DS-P